DEPARTMENT OF TRANSPORTATION

Federal Railroad Administration

[Docket Number FRA-2015-0073]

Notice of Application for Approval of Discontinuance or Modification of a Railroad Signal System

In accordance with Part 235 of Title 49 of the Code of Federal Regulations (CFR) and 49 U.S.C. 20502(a), this document provides the public notice that by a document dated July 14, 2015, Pan Am Railways (PAR) petitioned the Federal Railroad Administration (FRA) seeking approval for the discontinuance or modification of a signal system. FRA assigned the petition Docket Number FRA-2015-0073.

Applicant: Pan Am Railways, Mr. Timothy Kunzler, Chief Engineer, C&S, 1700 Iron Horse Park, North Billerica, MA 01862.

PAR seeks approval of the discontinuance of the traffic control system on the Freight Main Line (FML) of the Maine Central Railroad Company (MEC). The Springfield Terminal Railway Company (ST) is the operator of the line, as lessor from the owner, MEC. Both ST and MEC are wholly-owned subsidiaries of PAR.

The proposed discontinuance is located on the FML between control point freight (CPF) main 66 at Milepost (MP) 65.50, in Hermon, ME, and CPF-109 at MP 109.85, in Benton, ME.

The tracks involved include single main track from CPF-66 to CPF-90 at MP 90.37, double main track from CPF-90 to CPF-92 at MP 92.87, single main track from CPF-92 to CPF-107 at MP 107.42, and double main track from CPFI07 to CPF-109.

The proposed changes are as follows:

• Discontinue interlockings and associated appliances at CPF-66, CPF-78, CPF-80, CPF-90, CPF-92, CPF-93, CPF-107, and CPF-109.

• Replace power-operated switches with hand-operated switches at CPF-90, CPF-92, CPF-107, and CPF-109.

• Discontinue block signal Numbers 1279, 1257, 1256, 1218, 1207, 1192, 1129, 1100, 1087, 1068, 1030, Sl030, 995, 986, 956, 955, 932, 927, 898, and 899.

• Install distant signal at MP l07.42, governing westward movements to CPF-110.

This territory is under direct control of the district one train dispatcher, located at PAR offices in North Billerica.

The reason given for the proposed discontinuance is that traffic volumes do not warrant a traffic control system.

A copy of the petition, as well as any written communications concerning the petition, is available for review online at www.regulatons.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 14, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy.

See also http://www.regulations.gov/#!privacyNotice for the privacy notice of regulations.gov or interested parties may review DOT's complete Privacy Act Statement in the Federal Register published on April 11, 2000 (65 FR 19477).

Issued in Washington, DC, on July 22, 2015.
Ron Hynes,
Director, Office of Technical Oversight.

[FR Doc. 2015-18744 Filed 7-30-15; 8:45 am]

BILLING CODE 4910-06-P